ENVIRONMENTAL PROTECTION AGENCY

[ER-FRL-9046-5]

Environmental Impact Statements; Notice of Availability

Responsible Agency: Office of Federal Activities, General Information 202-564-5632 or https://www.epa.gov/nepa/.

Weekly receipt of Environmental Impact Statements

Filed 08/19/2019 10 a.m. ET Through 08/26/2019 10 a.m. ET

Pursuant to 40 CFR 1506.9.

Notice: Section 309(a) of the Clean Air Act requires that EPA make public its comments on EISs issued by other Federal agencies. EPA's comment letters on EISs are available at: https://cdxnodengn.epa.gov/cdx-enepa-public/action/eis/search.

EIS No. 20190192, Final, DOD, Other, Continental United States (CONUS) Interceptor Site, Review Period Ends: 09/30/2019, Contact: Dr. Buff Crosby 256-955-4032.

EIS No. 20190202, Final, FAA, AK, Adoption—Modernization and Enhancement of Ranges, Airspace, and Training Areas in the Joint Pacific Alaska Range Complex in Alaska, Contact: Paula Miller 202-267-7378.

The U.S. Department of Transportation's Federal Aviation Administration (FAA) has adopted the portions specific to Battle Area Complex Restricted Area R-2201 and the Expand Restricted Area R-2205, including the Digital Multi-Purpose Training Range, of the Departments of Army and the Air Force's Final EIS No. 20130181, filed 06/28/2013 with the EPA. FAA was a cooperating agency on this project. Therefore, recirculation of the document is not necessary under Section 1506.3(c) of the CEQ regulations.

EIS No. 20190203, Final, FHWA, NY, Van Wyck Expressway Capacity and Access Improvements to JFK Airport Project, Contact: Glorimar Reyes, Project Manager NYSDOT 718-482-7223, Pursuant to 23 U.S.C. 139(n)(2), FHWA has issued a combined FEIS and ROD. Therefore, the 30-day wait/review period under NEPA does not apply to this action.

EIS No. 20190204, Final, TVA, TN, Transmission System Vegetation Management Final Programmatic EIS, Review Period Ends: 09/30/2019, Contact: Anita E. Masters 423-751-8697.

EIS No. 20190205, Revised Draft, USFS, AZ, Apache-Sitgreaves National Forests Public Motorized Travel Management Plan, Comment Period Ends: 10/29/2019, Contact: Kevin Holmes 928-333-6267.

EIS No. 20190206, Draft, NOAA, FL, Draft Environmental Impact Statement for Florida Keys National Marine Sanctuary: A Restoration Blueprint, Comment Period Ends: 01/31/2020, Contact: Beth Dieveney (305) 797-6818.

EIS No. 20190207, Final, USACE, TX, Matagorda Ship Channel, Port Lavaca, Texas, Review Period Ends: 09/30/2019, Contact: Harmon Brown 409-766-3837.

EIS No. 20190208, Draft, BLM, AK, Willow Master Development Plan Draft Environmental Impact Statement, Comment Period Ends: 10/15/2019, Contact: Racheal Jones 907-290-0307.

EIS No. 20190209, Draft, BLM, AK, Ambler Road Draft Environmental Impact Statement, Comment Period Ends: 10/15/2019, Contact: Tina McMaster-Goering 907-271-1310.

EIS No. 20190210, Final, USFS, AK, Chugach National Forest Land Management Plan, Review Period Ends: 10/29/2019, Contact: Susan Jennings 907-772-5864.

EIS No. 20190211, Final, NMFS, Other, State Management Program for Recreational Red Snapper Amendment 50A to the Fishery Management Plan for the Reef Fish Resources of the Gulf of Mexico Review Period Ends: 09/30/2019 Contact: Lauren M. Waters 727-824-5305.

Amended Notice

EIS No. 20190161, Draft, BR, CA, Auburn State Recreation Area Preliminary General Plan and Auburn Project Lands Draft Resource Management Plan Draft Environmental Impact Report/Environmental Impact Statement, Comment Period Ends: 09/17/2019, Contact: Bonnie Van Pelt 916-537-7062. Revision to FR Notice Published 07/19/2019; Extending the Comment Period from 09/03/2019 to 09/17/2019.

Dated: August 26, 2019.
Robert Tomiak,
Director, Office of Federal Activities.

[FR Doc. 2019-18741 Filed 8-29-19; 8:45 am]

BILLING CODE 6560-50-P